DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Jail Diversion and Trauma Recovery—Priority to Veterans Program Evaluation—(OMB NO. 0930-0277)—Revision

The Substance Abuse and Mental Health Services Administration's (SAMHSA), Center for Mental Health Services (CMHS) has implemented the Targeted Capacity Expansion Grants for Jail Diversion Programs, and the Jail Diversion and Trauma Recovery Program represents the newest cohort of grantees. The Program currently collects client outcome measures from program participants who agree to participate in the evaluation. Data collection consists of interviews conducted at baseline, 6- and 12-month intervals.

The current proposal requests:

1. Substituting CMHS NOMS items for GPRA items. At the time of the previous OMB submission, the NOMS measures were not finalized.

2. Replacing the DC trauma Screen with a new set of traumatic event questions. The new trauma questions better reflect the experiences of the target population.

3. Replacing the Colorado Symptom Index with the BASIS 24.

4. Adding questions related to military service experience at the baseline. These items will be added to capture characteristics of the target population of the new grantee cohort, veterans.

5. Adding questions on military combat experience at the six month interview only. These items will capture the types of traumatic experiences among clients with a combat history.

6. Adding questions on lifetime mental health/substance use and service use and the CAGE to the baseline. These questions will be added to capture client's history of involvement with mental health and substance abuse systems, and the four CAGE items assess alcohol dependence.

7. Adding several lifetime criminal justice questions. These questions will assess client's lifetime involvement with the criminal justice system.

8. Adding the Recovery Enhancing Environment (REE) instrument to all interviews. The REE is a consumer oriented measure of recovery, a new and important program outcome.

9. Removing the MacArthur Perceived Coercion Scale from all instruments.

10. Removing the Mental Health Statistics Improvement Program questions from follow-up interviews. (These are replaced by a similar, but shorter, NOMS scale.)

The NOMS measures that are proposed for substitution of the GPRA measures have the same administration time and do not lengthen the interview. Two of the proposed additions (the REE and the lifetime MH/SA) will add 5 minutes each and the criminal justice questions will add 3 minutes. The military service questions will add an average of 4 minutes, as not all respondents are expected to answer these questions because grantees may serve non-veteran clients. The removal of the MacArthur Coercion Instrument reduces the baseline interview by 5 minutes and removal of the MHSIP reduces the follow-up interview by 5 minutes. The net lengthening of the instrument is 12 minutes for the baseline interview, and there is no net increase in length to the 6- and 12-month interviews.

The Program also collects data on program participants from records. The revisions to these instruments are formatting in nature.

New grantees were awarded on September 30, 2008 under the Jail Diversion and Trauma Recovery Program will commence data collection efforts in FY 2009; anticipated grantees awarded on September 30, 2009 would commence data collection in FY 2010; and anticipated grantees awarded on September 30, 2010 would commence data collection in FY 2011. The following tables summarize the burden for the data collection.

CY 2009 Annual Reporting Burden
Data collection activity | Number of respondents | Responses per respondent | Total responses | Average hours per response | Total hour burden
Client Interviews for FY 2008: Revised Instrument
Baseline (at enrollment) ¹ | 510 | 1 | 510 | 0.95 | 485
6 months | 408 | 1 | 408 | 0.92 | 375
12 months | 102 | 1 | 102 | 0.92 | 94
Sub Total | 1,020 |  | 1,020 |  | 954
Client Interviews for FY 2006-2007 Grantees: Current Instrument
Baseline (at enrollment) | 70 | 1 | 70 | 0.83 | 58
6 months | 70 | 1 | 70 | 0.92 | 64
12 months | 58 | 1 | 58 | 0.92 | 53
Sub Total | 35 |  | 35 |  | 32
Record Management by FY 2007 and FY 2008 Grantee Staff ⁵
Events Tracking ² | 8 | 800 | 6,400 | 0.03 | 192
Person Tracking ³ | 8 | 70 | 560 | 0.1 | 36
Service Use ⁴ | 8 | 25 | 200 | 0.17 | 34
Arrest History ⁴ | 8 | 25 | 200 | 0.17 | 34
Sub Total | 32 |  | 7,360 |  | 296
FY 2006 Grantees
Interview and Tracking data submission | 8 | 12 | 48 | 0.17 | 8
Overall Total | 1,095 |  | 8,415 |  | 1,290
¹ Only program enrollees who agree to participate in the evaluation receive a Baseline interview.
² The number of responses per respondent for the Events Tracking depends on the design of the jail diversion program and can range from a single screening for eligibility to four separate screenings; here 800 responses represents the average number of responses per respondent for the period based on the experience of the previous Grantees.
³ This estimate is an added burden proportion which is an adjustment reflecting the extent to which programs typically already collect the data items. The formula for calculating the proportion of added burden is: total number of items in the standard instrument, minus the number of core items currently included, divided by the total number of items in the standard instrument. For the Person Tracking program the burden estimate was calculated as follows: 56 times 0.65 (the proportion of added burden) = 36.
⁴ Record management forms (Service Use and Arrest) are only completed for those evaluation participants who receive both a Baseline interview and at least one follow-up (6- and/or 12-month) interview.
⁵ Assumes 1 respondent at grantee site is responsible for compiling the information.

CY 2010 Annual Reporting Burden
Data collection activity | Number of respondents | Responses per respondent | Total responses | Average hours per response | Total hour burden
Client Interviews for FY 2008 and Anticipated FY 2009: Revised Instrument
Baseline (at enrollment) ¹ | 1,110 | 1 | 1,110 | 0.95 | 1,055
6 months | 888 | 1 | 888 | 0.92 | 817
12 months | 491 | 1 | 490.6 | 0.92 | 451
Sub total | 2,489 |  | 2,489 |  | 2,323
Client Interviews for FY 2007 Grantees: Current Instrument
Baseline (at enrollment) | 0 | 1 | 0 | 0.83 | 0
6 months | 20 | 1 | 20 | 0.92 | 18
12 months | 15 | 1 | 15 | 0.92 | 14
Sub total | 35 |  | 35 |  | 32
Record Management by FY 2007, FY 2008 FY 2009 Grantee Staff ⁵
Events Tracking ² | 14 | 800 | 11,200 | 0.03 | 336
Person Tracking ³ | 14 | 80 | 1,120 | 0.1 | 62
Service Use ⁴ | 14 | 50 | 700 | 0.17 | 119
Arrest History ⁴ | 14 | 50 | 700 | 0.17 | 119
Sub total | 56 |  | 13,720 |  | 636
FY 2008 and FY 2009 Grantees
Interview and Tracking data submission | 12 | 12 | 48 | 0.17 | 8
Overall total | 2,592 |  | 16,292 |  | 2,999
¹ Since enrollment is anticipated to have ended for these Grantees by the end of CY 2009 there is no Baseline burden in CY 2010.
² The number of responses per respondent for the Events Tracking depends on the design of the jail diversion program and can range from a single screening for eligibility to four separate screenings; here 800 responses represents the average number of respondents.
³ This estimate is an added burden proportion which is an adjustment reflecting the extent to which programs typically already collect the data items. The formula for calculating the proportion of added burden is: total number of items in the standard instrument, minus the number of core items currently included, divided by the total number of items in the standard instrument. For the Person Tracking program the burden estimate was calculated as follows: 96 times 0.65 (the proportion of added burden) = 62.
⁴ Record management forms (Service Use and Arrest) are only completed for those evaluation participants who receive both a Baseline interview and at least one follow-up (6- and/or 12-month) interview.
⁵ Assumes 1 respondent at grantee site is responsible for compiling the information.

CY 2011 Annual Reporting Burden
Data collection activity | Number of respondents | Responses per respondent | Total responses | Average hours per response | Total hour burden
Client Interviews for FY 2008 and Anticipated FY 2009 and 2010: Revised Instrument
Baseline (at enrollment) ¹ | 1,710 | 1 | 1,710 | 0.83 | 1,419.3
6 months | 1,368 | 1 | 1,368 | 0.92 | 1,258.56
12 months | 879 | 1 | 879 | 0.92 | 808.68
Sub total | 3,957 |  | 3,957 |  | 3,487
Record Management by FY 2008 and Anticipated FY 2009 and FY 2010 Grantee Staff ⁵
Events Tracking ² | 18 | 800 | 14,400 | 0.03 | 432
Person Tracking ³ | 18 | 80 | 1,440 | 0.1 | 94
Service Use ⁴ | 18 | 50 | 900 | 0.17 | 153
Arrest History ⁴ | 18 | 50 | 900 | 0.17 | 153
Sub total | 72 |  | 17,640 |  | 832
FY 2008 and FY 2009 Grantees
Interview and Tracking data submission | 18 | 12 | 48 | 0.17 | 8
Overall total | 4,047 |  | 21,645 |  | 4,327
¹ Since enrollment is anticipated to have ended for these Grantees by the end of CY 2009 there is no Baseline burden in CY 2010.
² The number of responses per respondent for the Events Tracking depends on the design of the jail diversion program and can range from a single screening for eligibility to four separate screenings; here 800 responses represents the average number of respondents.
³ This estimate is an added burden proportion which is an adjustment reflecting the extent to which programs typically already collect the data items. The formula for calculating the proportion of added burden is: total number of items in the standard instrument, minus the number of core items currently included, divided by the total number of items in the standard instrument. For the Person Tracking program the burden estimate was calculated as follows: 144 times 0.65 (the proportion of added burden) = 94.
⁴ Record management forms (Service Use and Arrest) are only completed for those evaluation participants who receive both a Baseline interview and at least one follow-up (6- and/or 12-month) interview.
⁵ Assumes 1 respondent at grantee site is responsible for compiling the information.

CY 2012 Annual Reporting Burden
Data collection activity | Number of respondents | Responses per respondent | Total responses | Average hours per response | Total hour burden
Client Interviews for Anticipated FY 2009 and FY 2010: Revised Instrument
Baseline (at enrollment) ¹ | 1,200 | 1 | 1,200 | 0.83 | 996
6 months | 1,080 | 1 | 1,080 | 0.92 | 993.6
12 months | 1,084 | 1 | 1,084 | 0.92 | 997.28
Sub total | 3,364 |  | 3,364 |  | 2,987
Record Management by Anticipated FY 2009 and FY 2010 Grantee Staff ⁵
Events Tracking ² | 12 | 800 | 9,600 | 0.03 | 288
Person Tracking ³ | 12 | 70 | 840 | 0.1 | 55
Service Use ⁴ | 12 | 25 | 300 | 0.17 | 51
Arrest History ⁴ | 12 | 25 | 300 | 0.17 | 51
Sub total | 48 |  | 11,040 |  | 445
FY 2008 and FY 2009 Grantees
Interview and Tracking data submission | 12 | 12 | 48 | 0.17 | 8
Overall total | 3,424 |  | 14,452 |  | 3,440
¹ Since enrollment is anticipated to have ended for these Grantees by the end of CY 2009 there is no Baseline burden in CY 2010.
² The number of responses per respondent for the Events Tracking depends on the design of the jail diversion program and can range from a single screening for eligibility to four separate screenings; here 800 responses represents the average number of respondents.
³ This estimate is an added burden proportion which is an adjustment reflecting the extent to which programs typically already collect the data items. The formula for calculating the proportion of added burden is: total number of items in the standard instrument, minus the number of core items currently included, divided by the total number of items in the standard instrument. For the Person Tracking program the burden estimate was calculated as follows: 84 times 0.65 (the proportion of added burden) = 55.
⁴ Record management forms (Service Use and Arrest) are only completed for those evaluation participants who receive both a Baseline interview and at least one follow-up (6- and/or 12-month) interview.
⁵ Assumes 1 respondent at grantee site is responsible for compiling the information.

Written comments and recommendations concerning the proposed information collection should be sent by September 30, 2009 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-5806.

Dated: August 19, 2009.
Elaine Parry,
Director, Office of Program Services.

[FR Doc. E9-20900 Filed 8-28-09; 8:45 am]

BILLING CODE 4162-20-P